ENVIRONMENTAL PROTECTION AGENCY

[OPP-66282; FRL-6761-3]

Notice of Receipt of Requests to Voluntarily Cancel Certain Pesticide Registrations

AGENCY: Environmental Protection Agency (EPA).

ACTION: Notice.

SUMMARY: In accordance with section 6(f)(1) of the Federal Insecticide, Fungicide, and Rodenticide Act (FIFRA), as amended,EPA is issuing a notice of receipt of requests by registrants to voluntarily cancel certain pesticide registrations.

DATES: Unless a request is withdrawn by July 9, 2001, unless indicated otherwise, orders will be issued canceling all of these registrations.

FOR FURTHER INFORMATION CONTACT: By mail: James A. Hollins, Office of Pesticide Programs (7502C), Environmental Protection Agency, 1200 Pennsylvania Avenue, NW., Washington, DC 20460. Office location for commercial courier delivery, telephone number and e-mail address: Rm. 224, Crystal Mall No. 2, 1921 Jefferson Davis Highway, Arlington, VA 22202, (703) 305-5761; e-mail address: hollins.james@epa.gov.

SUPPLEMENTARY INFORMATION:

I. General Information

A. Does this Action Apply to Me?

This action is directed to the public in general. Although this action may be of particular interest to persons who produce or use pesticides, the Agency has not attempted to describe all the specific entities that may be affected by this action. If you have any questions regarding the information in this notice, consult the person listed under FOR FURTHER INFORMATION CONTACT.

B. How Can I Get Additional Information or Copies of Support Documents?

1. Electronically. You may obtain electronic copies of this document and certain other related documents that might be available electronically, from the EPA Internet Home Page at http://www.epa.gov. To access this document, on the Home page select “Laws and Regulations” “Regulations and Proposed Rules,” and then look up the entry for this document under the “Federal Register—Environmental Documents.” You can also go directly to the Federal Register listing at (http://www.epa.gov/fedrgstr/).

2. In person. Contact James A. Hollins at 1921 Jefferson Davis Highway, Crystal Mall 2, Rm. 224, Arlington, VA, telephone number (703) 305-5761. Available from 7:30 a.m. to 4:45 p.m.,Monday thru Friday, excluding legal holidays.

II. What Action is the Agency Taking?

This notice announces receipt by the Agency of applications from registrants to cancel some 31 pesticide products registered under section 3 or 24(c) of FIFRA. These registrations are listed in sequence by registration number (or company number and 24(c)number) in the following Table 1:

Table 1. — Registrations with Pending Requests for Cancellation
Registration No. | Product Name | Chemical Name
000264 OR-96-0017 | Mocap 10% Granular Nematicide Insecticide | O-Ethyl S,S-dipropyl phosphorodithioate
000264 OR-96-0018 | Mocap EC Nematicide - Insecticide | O-Ethyl S,S-dipropyl phosphorodithioate
000279 OR-78-0020 | Thiodan 50WP Insecticide | 6,7,8,9,10-Hexachloro-1,5,5a,6,9,9a-hexahydro-6,9-methano-2,4,3-benzodioxathiepin-3-oxide
000352 TX-97-0004 | Dupont Staple Herbicide | Sodium 2-chloro-6-(4,6-dimethoxypyrimidin-2-yl-thio)benzoate
000352 WA-93-0006 | Dupont Escort Herbicide | Methyl 2-(((((4-methoxy-6-methyl-1,3,5-triazin-2-yl)amino)carbonyl)
000498-00155 | Spraypak Wasp Jet Spray | o-Isopropoxyphenyl methylcarbamate
000498-00165 | Spraypak Wasp Spray | o-Isopropoxyphenyl methylcarbamate
|  | (Butylcarbityl)(6-propylpiperonyl) ether 80% and related compounds 20%
|  | Pyrethrins
000498-00168 | Spraypak Wasp Long Range Jet Spray, Formula 2 | o-Isopropoxyphenyl methylcarbamate
000538-00011 | Scotts Halts Crabgrass Preventer | S-(O,O-Diisopropyl phosphorodithioate) ester of N-(2-mercaptoethyl)benzenesulfonamide
000538-00053 | Scotts Super Halts Plus | S-(O,O-Diisopropyl phosphorodithioate) ester of N-(2-mercaptoethyl)benzenesulfonamide
000538-00077 | Crabgrass Preventer and Dandelion Control Plus Fertilizer | S-(O,O-Diisopropyl phosphorodithioate) ester of N-(2-mercaptoethyl)benzenesulfonamide
|  | 2,4-Dichlorophenoxyacetic acid
|  | 2-(2-Methyl-4-chlorophenoxy)propionic acid
000538-00129 | Pro-turf Fertilizer and Crabgrass Preventer | S-(O,O-Diisopropyl phosphorodithioate) ester of N-(2-mercaptoethyl)benzenesulfonamide
000538-00156 | Turf Builder Plus Halts for Lawns | S-(O,O-Diisopropyl phosphorodithioate) ester of N-(2-mercaptoethyl)benzenesulfonamide
002935-00481 | Parathion 4 Spray | O,O-Diethyl O-p-nitrophenyl phosphorothioate
002935-00483 | Parathion 8 Aqua | O,O-Diethyl O-p-nitrophenyl phosphorothioate
003125 TX-84-0005 | Guthion 2 L | O,O-Dimethyl S-((4-oxo-1,2,3-benzotriazin-3(4H)-yl)methyl) phosphorodithioate
005481 ID-97-0003 | Vapam Soil Fumigant Solution for All Crops | Sodium N-methyldithiocarbamate
005481 OR-83-0012 | Vapam Soil Fumigant Solution | Sodium N-methyldithiocarbamate
005905-00513 | Parathion 4E Emulsifiable Insecticide Concentrate | O,O-Diethyl O-p-nitrophenyl phosphorothioate
005905-00514 | Parathion 8E Emulsifiable Insecticide Concentrate | O,O-Diethyl O-p-nitrophenyl phosphorothioate
010163-00197 | Betasan 2.9E | S-(O,O-Diisopropyl phosphorodithioate) ester of N-(2-mercaptoethyl)benzenesulfonamide
010163-00202 | Betasan 46% Manufacturing Concentrate | S-(O,O-Diisopropyl phosphorodithioate) ester of N-(2-mercaptoethyl)benzenesulfonamide
010163-00203 | Betasan 3.6G + Fertilizer | S-(O,O-Diisopropyl phosphorodithioate) ester of N-(2-mercaptoethyl)benzenesulfonamide
010163 CA-97-0001 | Prefar 6-E Herbicide | S-(O,O-Diisopropyl phosphorodithioate) ester of N-(2-mercaptoethyl)benzenesulfonamide
010163 OR-94-0023 | Prefar 4-E Herbicide | S-(O,O-Diisopropyl phosphorodithioate) ester of N-(2-mercaptoethyl)benzenesulfonamide
010292-00017 | Liquid Residual Spray Insecticide | o-Isopropoxyphenyl methylcarbamate
|  | N-Octyl bicycloheptene dicarboximide
|  | (Butylcarbityl)(6-propylpiperonyl) ether 80% and related compounds 20%
|  | Pyrethrins
010900-00067 | 858 P.D. Aqueous Roach & Ant Spray | O,O-Diethyl O-(3,5,6-trichloro-2-pyridyl) phosphorothioate
|  | (Butylcarbityl)(6-propylpiperonyl) ether 80% and related compounds 20%
|  | Pyrethrins
051036-00180 | Micro Flo C0./ Parathion 8E | O,O-Diethyl O-p-nitrophenyl phosphorothioate
062719-00344 | DMA 4 IVM | Dimethylamine 2,4-dichlorophenoxyacetate
062719 TX-95-0011 | Lorsban 50W Insecticide In Water Soluble Packets | O,O-Diethyl O-(3,5,6-trichloro-2-pyridyl) phosphorothioate
073049 WA-86-0019 | 3.91% Liquid Concentrate Progibb | Gas cartidge (as a device for burrowing animal control)
|  | Gibberellic acid
|  | Gibberellic acid
|  | Gibberellic acid
|  | Gibberellic acid
|  | N6-Benzyladenine, mixture with Gibberellins A4 and A7
Note: Registrants for EPA Registrations 010900-67 and 051036-180 waived the comment period and cancellation of these two products are effective upon publication of this Federal Register notice.

Unless a request is withdrawn by the registrant within 180 days (30 days when requested by registrant) of publication of this notice, orders will be issued canceling all of these registrations.Users of these pesticides or anyone else desiring the retention of a registration should contact the applicable registrant during this comment period.

The following Table 2, includes the names and addresses of record for all registrants of the products in Table 1, in sequence by EPA company number:

Table 2. — Registrants Requesting Voluntary Cancellation
EPA Company No. | Company Name and Address
000264 | Aventis Cropscience USA LP, 2 T.W. Alexander Drive, Research Triangle Park, NC 27709.
000279 | FMC Corp. Agricultural Products Group, 1735 Market St, Philadelphia, PA 19103.
000352 | E. I. Du Pont De Nemours, Inc., Barley Mill Plaza, Walker's Mill, Wilmington, DE 19880.
000498 | Chase Products Co, Putting The Best At Your Fingertips, Box 70, Maywood, IL 60153.
000538 | The Scotts Co., 14111 Scottslawn Rd, Marysville, OH 43041.
002935 | Wilbur Ellis Co., 191 W. Shaw Ave, #107, Fresno, CA 93704.
003125 | Bayer Corp., Agriculture Division, 8400 Hawthorn Rd, Box 4913, Kansas City, MO 64120.
005481 | Amvac Chemical Corp., Attn: Jon C. Wood, 4695 Macarthur Ct., Suite 1250, Newport Beach, CA 92660.
005905 | Helena Chemical Co, 6075 Poplar Ave., Suite 500, Memphis, TN 38119.
010163 | Gowan Co, Box 5569, Yuma, AZ 85366.
010292 | Venus Laboratories, Inc., 855 Lively Blvd, Wood Dale, IL 60191.
010900 | Sherwin-Williams Consumer Group, 601 Canal Rd., Cleveland, OH 44113.
051036 | Micro-Flo Co, Box 772099, Memphis, TN 38117.
062719 | Dow Agrosciences LLC, 9330 Zionsville Rd 308/3E, Indianapolis, IN 46268.
073049 | Valent Biosciences Corp., 870 Technoloy Way, Libertyville, IL 60048.

III. Loss of Active Ingredients

Unless the request for cancellation is withdrawn, one pesticide active ingredient will no longer appear in any registered products. Those who are concerned about the potential loss of this active ingredient for pesticidal use are encouraged to work directly with the registrant(s) to explore the possibility of withdrawing their request for cancellation. The active ingredient is listed in the following Table 3, with the CAS Number and EPA Company Number.

Table 3. — Active Ingredients Which Would Disappear as a Result Of Registrant's Request to Cancel
CAS No. | Chemical Name | EPA Company No.
53663-71-1 | N6-Benzyladenine, mixt. with Gibberellins A4 and A7 | 073049

IV. What is the Agency's Authority for Taking this Action?

Section 6(f)(1) of FIFRA, provides that a registrant of a pesticide product may at any time request that any of its pesticide registrations be amended to delete one or more uses.The Act further provides that, before acting on the request, EPA must publish a notice of receipt of any such request in theFederal Register. Thereafter, the Administrator may approve such a request.

V. Procedures for Withdrawal of Request

Registrants who choose to withdraw a request for cancellation must submit such withdrawal in writing to James A.Hollins, at the address given above, postmarked before July 9, 2001, unless indicated otherwise. This written withdrawal of the request for cancellation will apply only to the applicable 6(f)(1) request listed in this notice. If the product(s) have been subject to a previous cancellation action, the effective date of cancellation and all other provisions of any earlier cancellation action are controlling. The withdrawal request must also include a commitment to pay any reregistration fees due, and to fulfill any applicable unsatisfied data requirements.

VI. Provisions for Disposition of Existing Stocks

The effective date of cancellation will be the date of the cancellation order. The orders effecting these requested cancellations will generally permit a registrant to sell or distribute existing stocks for 1-year after the date the cancellation request was received by the Agency. This policy is in accordance with the Agency's statement of policy as prescribed in the Federal Register of June 26, 1991 (56 FR 29362) (FRL 3846-4). Exception to this general rule will be made if a product poses a risk concern, or is in noncompliance with reregistration requirements, or is subject to a data call-in. In all cases, product-specific disposition dates will be given in the cancellation orders.

Existing stocks are those stocks of registered pesticide products which are currently in the United States and which have been packaged, labeled, and released for shipment prior to the effective date of the cancellation action. Unless the provisions of an earlier order apply, existing stocks already in the hands of dealers or users can be distributed, sold or used legally until they are exhausted, provided that such further sale and use comply with the EPA-approved label and labeling of the affected product(s). Exceptions to these general rules will be made in specific cases when more stringent restrictions on sale, distribution, or use of the products or their ingredients have already been imposed, as in Special Review actions, or where the Agency has identified significant potential risk concerns associated with a particular chemical.

List of Subjects

Environmental protection, Agricultural commodities, Pesticides and pests.

Dated: December 21, 2000.
Richard D. Schmitt,
Director, Information Resources and Services Division, Office of Pesticide Programs.

[FR Doc. 01-575 Filed 1-8-01; 8:45 am]

BILLING CODE 6560-50-S